DEPARTMENT OF THE INTERIOR

National Park Service

Notice of Record of Decision for Final Environmental Impact Statement and Bison Management Plan for the State of Montana and Yellowstone National Park

The U.S. Department of the Interior's National Park Service and the U.S. Department of Agriculture's Animal and Plant Health Inspection Service and Forest Service have signed a Record of Decision (December 20, 2000) on a Joint Management Plan for bison in Yellowstone National Park and Montana.

The Plan is designed to preserve the largest wild, free-ranging population of bison in the United States while minimizing the risk of brucellosis disease transmission (between bison and cattle) to protect the economic interest and viability of the livestock industry in the State of Montana.

While the Joint Management Plan is not intended to be a brucellosis eradication plan, it employs many tools to manage and reduce the potential risk of brucellosis transmission from bison to cattle. Limited numbers of bison will be allowed on public lands outside the park during winter when cattle are not present. Bison will not be allowed to intermingle with cattle and will be hazed back into the park when the weather typically moderates in the spring (mid-April on the north side and mid-May on the west side). The agencies will capture or remove bison still remaining outside the park that cannot be hazed. Any possible risk to cattle will be further minimized before cattle are allowed to return to public lands by waiting a sufficient amount of time to ensure that the bacteria which causes the disease is no longer alive outside the park.

The agencies will further manage the risk of transmission of brucellosis to cattle by limiting the number of bison outside the park in the north (Reese Creek) and west (West Yellowstone) management areas through intensive monitoring and hazing, and when necessary, capture, test, and slaughter of seropositive bison. Management activity will be increased as bison move toward the edges of management zones outside the park. The plan also provides that the agencies will maintain a spring bison population of up to 3,000 animals. The agencies also agree to increase implementation of non-lethal management measures should severe winter conditions result in a large management removal or natural winter die off.

In an effort to further reduce the risk of transmission and protect cattle, the agencies will require vaccination if 100% of all vaccination-eligible cattle in north and west management zones are not vaccinated within one year. APHIS will pay for all direct vaccination costs. Allowing untested bison outside the park in the north and west boundary management zones will begin after the agencies have had experience with seronegative bison in certain areas outside the park during winter and when the National Park Service initiates vaccination of bison with a safe and effective vaccine utilizing a safe remote delivery system inside the park.

With the implementation of this plan, the federal agencies and the State of Montana recognize that bison are an essential component of the greater Yellowstone ecosystem and that the cooperation of several agencies is needed to fully manage the herd to reduce the risk of transmission of brucellosis from bison to cattle and maintain a wild, free-ranging population of Yellowstone bison.

The Joint Management Plan, included in the Record of Decision, is a slightly altered version of the existing plan presented in the federal agencies' final Environmental Impact Statement (FEIS). The State of Montana incorporated and adopted the federal agencies' FEIS into its own FEIS for bison management and has recently signed their Record of Decision, which implements the same Joint Management Plan as the federal agencies.

A copy of the Record of Decision on Bison Management for Yellowstone National Park and the State of Montana can be obtained via the internet by visiting the National Park Service web site at http://www.nps.gov/planning or by calling (307) 344-2159.

Jack Neckels,
Acting Director, Intermountain Region.

[FR Doc. 01-1574 Filed 1-19-01; 8:45 am]

BILLING CODE 4310-70-P